DEPARTMENT OF AGRICULTURE

Forest Service

Allegheny National Forest, PA: Willow Creek All-Terrain Vehicle (ATV) Trail Expansion Project

AGENCY: Forest Service, USDA.

ACTION: Withdrawal of a Notice of Intent to prepare an Environmental Impact Statement.

SUMMARY: The Allegheny National Forest, Bradford Ranger District is issuing this notice to advise the public that the agency intends to withdraw their Notice of Intent (NOI) to prepare an Environmental Impact Statement (EIS) for the proposed Willow Creek All-Terrain Vehicle (ATV) Trail Expansion Project (WCATEP).

SUPPLEMENTARY INFORMATION: The NOI for this project was published on Friday, April 9, 2004, and can be found in the Federal Register Vol. 69, No. 69, pages 18866-18867.

Bradford District Ranger Anthony Scardina has recommended cancellation saying: It is important to focus on the maintenance and improvement of the recreation facilities and trails that we currently have on the District and Forest. This is the message that we continue to hear from our visitors and that is made apparent from our recent Recreation Facilities Analysis and other data analyses. Some of our existing motorized and non-motorized trails and recreation facilities need significant amounts of work to be maintained to standard and provide quality recreational experiences for our visitors. I have determined that it is not a responsible use of public funds to add 24 to 43 miles of new trail, estimated to cost $40,000 per mile to build. Therefore, I recommend that this project be cancelled.

FOR FURTHER INFORMATION CONTACT: Anthony V. Scardina, District Ranger or Julie Moyer, IDT Leader, Bradford Ranger District, 29 Forest Service Drive, Bradford, PA 16701, telephone (814)-363-6000.

Responsible Official: Leanne Marten, Forest Supervisor, Allegheny National Forest, 4 Farm Colony Drive, Warren, PA 16365, is the responsible official.

Dated: July 10, 2009.
Leanne M. Marten,
Forest Supervisor.

[FR Doc. E9-16914 Filed 7-15-09; 8:45 am]

BILLING CODE 3410-11-P